DEPARTMENT OF JUSTICE

Office of Justice Programs

Agency Information Collection Activities: Proposed Collection; Comment Request

ACTION: Notice of information collection under review; new collection; Fiscal Year 1999 State Domestic Preparedness Equipment Program Needs Assessment.

The Department of Justice, Office of Justice Programs (OJP), Office for State and Local Domestic Preparedness (OSLDPS), has submitted the following information collection request to the Office of Management and Budget (OMB) for review and clearance in accordance with emergency review procedures of the Paperwork Reduction Act of 1995. OMB approval has been requested by June 16, 2000. The proposed information collection is published to obtain comments from the public and affected agencies. If granted, the emergency approval is only valid for 180 days. Comments should be directed to OMB, Office of Information Regulation Affairs, Attention: Department of Justice Desk Officer (202) 395-3122, Washington, DC 20530.

During the first 60 days of this same review period, a regular review of this information collection is also being undertaken. All comments and suggestions, or questions regarding additional information, to include obtaining a copy of the proposed information collection instrument with instructions, should be directed to Frank Lepage, Chief, Grants Management Operations Branch, Office for State and Local Domestic Preparedness, 810 7th Street, NW., Washington, DC 20531, or facsimile at (202) 616-2922.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: New collection.

(2) The title of the form/collection: Fiscal Year 1999 State Domestic Preparedness Equipment Program Needs Assessment.

(3) The agency form number, if any, and the applicable component of the Department sponsoring the collection: U.S. Department of Justice, Office of Justice Programs, Office for State and Local Domestic Preparedness Support.

(4) Affected Public who will be asked or required to respond, as well as a brief abstract:

Primary: Federal, State, and Local Government.

Abstract: Section 1404 of the Defense Against Weapons of Mass Destruction Act of 1998 (Title XIV of Public Law 105-261; 50 U.S.C. 2301) as amended by Section 1064 of the National Defense Authorization Act of 2000 (Title X of Public law 106-65; 50 U.S.C. 2301) authorizes the Department of Justice to collect information from state and local jurisdictions to assess the threat and risk of terrorist employment of weapons of mass destruction against cities and other local areas. This data collection is a one-time event that will allow states to: (1) Report current jurisdictional needs for equipment, training, exercises, and technical assistance; (2) forecast projected needs for this support; and, (3) identify the gaps that exist at the jurisdictional level in equipment, training, exercises, and technical assistance that OJP/OSLDPS funding will be used to address. Additionally, the information collected will guide OJP/OSLDPS in the formulation of domestic preparedness policies and with the development of OSLDPS programs to enhance state and local first responder capabilities.

(5) An estimate of the total number of respondents and the amount of time estimated for an average respondent to respond/reply: The data collection being proposed is a one-time effort incorporating three main components: A terrorist threat and risk assessment, a public health capabilities assessment, and an equipment needs and capabilities assessment. Information will be collected by approximately 9,000 local law enforcement, public health, and emergency management agencies. In addition, a state administrative agency in each state will roll-up the local data and submit this information to OJP/OSLDPS. Collection and tabulation of the raw data at the local level may take up to one month. Jurisdictions using the OJP data collection tool designed for this exercise may experience burdens ranging from 4-8 hours to collect tabulate and input data. In addition, roll-up of the data at the state level and electronic submission to OJP may take up to 4 hours.

(6) An estimate of the total public burden (in hours) associated with the collection: The total public burden associated with this one-time data collection will be approximately 66,200 hours.

If additional information is required, contact: Ms. Brenda E. Dyer, Deputy Clearance Officer, United States Department of Justice, Information Management and Security Staff, Justice Management Division, Suite 1220, National Place Building, 1331 Pennsylvania Avenue, NW, Washington, DC 20530.

Dated: June 2, 2000.
Brenda E. Dyer,
Department Deputy Clearance Officer, United States Department of Justice.

[FR Doc. 00-14421 Filed 6-7-00; 8:45 am]

BILLING CODE 4410-18-M